DEPARTMENT OF COMMERCE

National Oceanic and Atmospheric Administration

50 CFR Part 648

[Docket No. 040809233-4363-03; I.D. 083105A]

Magnuson-Stevens Fishery Conservation and Management Act Provisions; Fisheries of the Northeastern United States; Atlantic Sea Scallop Fishery; Closure of the Closed Area I Scallop Access Area to General Category Scallop Vessels

AGENCY: National Marine Fisheries Service (NMFS), National Oceanic and Atmospheric Administration (NOAA), Commerce.

ACTION: Temporary rule; closure.

SUMMARY: NMFS announces the closure of the Closed Area I (CAI) Scallop Access Area for general category scallop vessels for the remainder of the 2005 fishing year (through February 28, 2006). This closure is based on a determination by the Northeast Regional Administrator (RA) that general category scallop vessels will have made all of the 162 allowed trips by 0001 hr local time September 8, 2005. This action is being taken to prevent the allocation of general category trips in CAI Scallop Access Area from being exceeded during the 2005 fishing year in accordance with the regulations implemented under Framework 16 to the Atlantic Sea Scallop Fishery Management Plan (FMP) and Framework 39 to the Northeast Multispecies FMP (Joint Frameworks) and the Magnuson-Stevens Fishery Conservation and Management Act.

DATES: Effective 0001 hr local time September 8, 2005, through February 28, 2006.

FOR FURTHER INFORMATION CONTACT: Don Frei, Fishery Management Specialist, (978) 281-9221, fax (978) 281-9135.

SUPPLEMENTARY INFORMATION: Regulations governing fishing activity in the Sea Scallop Access Areas are found at 50 CFR 648.59 and 648.60. Regulations specifically governing general category scallop vessel operations in the CAI Scallop Access Area are specified at ' 648.59(b)(5)(ii). These regulations authorize vessels issued a valid general category scallop permit to fish in the CAI Scallop Access Area under specific conditions, including a cap of 162 trips to be made by general category vessels during the 2005 fishing year. The regulations at ' 648.59(b)(5)(ii) require the RA to close the CAI Scallop Access Area to general category scallop vessels once the RA has determined that the allowed number of trips are projected to be taken.

As of August 26, 2005, 136 trips had been completed by general category scallop vessels fishing in the CAI Scallop Access Area. Based on VMS trip declarations and analysis of fishing effort, a projection concluded that, given current activity levels by general category scallop vessels in the area, the trip cap would be attained by September 8, 2005. Therefore, in accordance with the regulations at 50 CFR 648.59(b)(5)(ii), this action closes the CAI Scallop Access Area to all general category scallop vessels as of 0001 hr local time September 8, 2005. This closure is in effect for the remainder of the 2005 fishing year, which ends February 28, 2006. The CAI Scallop Access Area is scheduled to re-open to scallop fishing, including trips for general category scallop vessels, on June 15, 2006, unless the schedule for Scallop Access Areas is modified by the New England Fishery Management Council.

Classification

This action is required by 50 CFR part 648 and is exempt from review under Executive Order 12866.

Pursuant to 5 U.S.C. 553(b)(B), the Assistant Administrator for Fisheries (AA) finds good cause to waive prior notice and opportunity for public comment because it is impracticable and contrary to the public interest. The regulations at ' 648.59(b)(5)(ii) require the RA to close the CAI Scallop Access Area to general category scallop vessels to ensure that general category scallop vessels do not take more than the allocated number of trips in the Scallop Access Area. Data only recently became available indicating that the allocated trips will be taken by September 8, 2005. Allowing general category vessels to continue to take trips in the CAI Scallop Access Area after September 8, 2005, would result in vessels taking more than the allowed number of trips in the CAI Scallop Access Area, and in the localized over-harvest of the scallop resource. Such overharvest would likely reduce the projected levels of fishing activity within the CAI Scallop Access Area in future years for both general category and limited access scallop vessels. This conflicts with the agency's obligation to achieve the objectives of the FMP and to implement its measures in an effective manner. Based on the foregoing, the AA finds good cause pursuant to 5 U.S.C. 553(d)(3) to waive the 30-day delayed effectiveness period for this action.

Authority: 16 U.S.C. 1801 et seq.

Dated: September 2, 2005.
Emily Menashes,
Acting Director, Office of Sustainable Fisheries, National Marine Fisheries Service.

[FR Doc. 05-17801 Filed 9-2-05; 2:32 pm]

BILLING CODE 3510-22-S